DEPARTMENT OF ENERGY

Federal Energy Regulatory Commission

[P-13295-000]

BPUS Generation Development, LLC; Notice of Application for Preliminary Permit Accepted for Filing and Soliciting Comments, Motions To Intervene, and Protests

November 13, 2008.

On October 2, 2008, BPUS Generation Development LLC filed an application, pursuant to section 4(f) of the Federal Power Act (FPA), to study the proposed Duffey Lakes Pumped Storage Project. The proposed project would be located in Snohomish and King Counties, Washington. The project facilities would be partially located on federal lands administered by the U.S. Department of Agriculture Forest Service.

The proposed project would consist of: (1) An expanded Duffey Lakes as the upper reservoir; (2) an expanded Lake Cavanaugh as the lower reservoir; (3) a new powerhouse containing four pump/turbine-generator units with a combined capacity of 1,150 megawatts (MW); (4) a new intake structure, headrace tunnel, and two tailraces; (5) a new 5.0-mile-long, 500-kilovolt transmission line, and (5) appurtenant facilities. The proposed project would have an average annual generation of 3,293 gigawatt-hours (GWh).

Applicant Contact: Mr. Jeffrey M. Auser, P.E., BPUS Generation Development LLC, 225 Greenfield Parkway, Suite 201, Liverpool, NY 13088, (315) 413-2821.

FERC Contact: Jake Tung, (202) 502-8757.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13295) in the docket number field to access the document. For assistance, call toll-free 1-866-208-3372.

Kimberly D. Bose,
Secretary.

[FR Doc. E8-27414 Filed 11-18-08; 8:45 am]

BILLING CODE 6717-01-P